DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Ilya Koltover, Ph.D., California Institute of Technology: Based on the report of an investigation conducted by the California Institute of Technology (CIT) (CIT Report), an admission by the respondent, and additional analysis conducted by ORI in its oversight review, the U.S. Public Health Service (PHS) found that Ilya Koltover, Ph.D., former postdoctoral fellow at CIT, engaged in scientific misconduct in research supported by PHS Postdoctoral Fellowship F32 GM20588 entitled “Design of targeted synthetic gene delivery vehicles.”

Specifically, PHS found that Dr. Koltover plagiarized a scanning micrograph (STM) from a graduate student, falsified it as an atomic force micrograph (AFM) of a separate molecule, and falsely represented it (1) to his research group at Caltech; (2) in his grant application to the Petroleum Research Fund (PRF); and (3) to his mentor, who then included it as an AFM figure in a proposal to the National Science Foundation (NSF).

Dr. Koltover has entered into a Voluntary Exclusion Agreement in which he has voluntarily agreed for a period of three (3) years, beginning on October 3, 2003:

(1) To exclude himself from serving in any advisory capacity to PHS including but not limited to service on any PHS advisory committee, board, and/or peer review committee, or as a consultant;

(2) That any institution which submits an application for PHS support for a research project on which Dr. Koltover's participation is proposed or which uses him in any capacity on PHS supported research, or that submits a report of PHS-funded research in which he is involved, must concurrently submit a plan for supervision of his duties to the funding agency for approval. The supervisory plan must be designed to ensure the scientific integrity of his research contribution. Dr. Koltover agreed to ensure that a copy of the supervisory plan is also submitted to ORI by the institution and that he will not participate in any PHS-supported research until such a supervision plan is submitted to ORI; and

(3) That any institution employing Dr. Koltover submit, in conjunction with each application for PHS funds or report, manuscript, or abstract of PHS funded research in which he is involved, a certification that the data provided by Dr. Koltover are based on actual experiments or are otherwise legitimately derived, and that the data, procedures, and methodology are accurately reported in the application or report. Dr. Koltover must ensure that the institution sends a copy of the certification to ORI.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 03-27295 Filed 10-29-03; 8:45 am]

BILLING CODE 4150-31-P